DEPARTMENT OF ENERGY

Federal Energy Regulatory Commission

Combined Notice of Filings

Take notice that the Commission has received the following Natural Gas & Oil Pipeline Rate and Refund Report filings:

Filings Instituting Proceedings

Docket Numbers: CP23-78-000; CP23-79-000; CP17-21-003.

Applicants: Port Arthur Pipeline, LLC, Texas Connector Pipeline, LLC.

Description: Joint Abbreviated Application of Port Arthur Pipeline, LLC to Abandon Facilities by Transfer and to Amend Certificate, and of Texas Connector Pipeline, LLC for Certificates of Public Convenience and Necessity.

Filed Date: 2/27/23.

Accession Number: 20230227-5279.

Comment Date: 5 p.m. ET 3/13/23.

Docket Numbers: CP23-80-000; CP23-81-000; CP21-44-002.

Applicants: LA Storage, LLC, Gillis Hub Pipeline, LLC.

Description: Joint Abbreviated Application of LA Storage, LLC to Abandon Facilities and Services and to Amend Certificate, and of Gillis Hub Pipeline, LLC for Certificates of Public Convenience and Necessity.

Filed Date: 2/27/23.

Accession Number: 20230227-5280.

Comment Date: 5 p.m. ET 3/13/23.

Docket Numbers: PR23-34-000.

Applicants: Permian Highway Pipeline LLC.

Description: § 284.123 Rate Filing: Fuel Filing 04.01.23 to be effective 4/1/2023.

Filed Date: 2/27/23.

Accession Number: 20230227-5159.

Comment Date: 5 p.m. ET 3/20/23.

Docket Numbers: RP23-469-000.

Applicants: Sabine Pipe Line LLC.

Description: § 4(d) Rate Filing: Normal Section 5 22—rate changes 2023 to be effective 4/1/2023.

Filed Date: 2/27/23.

Accession Number: 20230227-5197.

Comment Date: 5 p.m. ET 3/13/23.

Docket Numbers: RP23-470-000.

Applicants: El Paso Natural Gas Company, L.L.C.

Description: § 4(d) Rate Filing: Negotiated Rate Agreements Update (Pioneer Apr-June 2023) to be effective 4/1/2023.

Filed Date: 2/27/23.

Accession Number: 20230227-5200.

Comment Date: 5 p.m. ET 3/13/23.

Docket Numbers: RP23-471-000.

Applicants: El Paso Natural Gas Company, L.L.C.

Description: § 4(d) Rate Filing: El Paso Natural Gas Company, L.L.C. submits tariff filing per 154.204: Negotiated Rate Agreements Filing (Salt Creek_Tenaska) to be effective 4/1/2023.

Filed Date: 2/27/23.

Accession Number: 20230227-5205.

Comment Date: 5 p.m. ET 3/13/23.

Docket Numbers: RP23-472-000.

Applicants: Alliance Pipeline L.P.

Description: § 4(d) Rate Filing: Negotiated Rates—Various Mar 1 2023 Releases to be effective 3/1/2023.

Filed Date: 2/28/23.

Accession Number: 20230228-5021.

Comment Date: 5 p.m. ET 3/13/23.

Docket Numbers: RP23-473-000.

Applicants: Eastern Gas Transmission and Storage, Inc.

Description: § 4(d) Rate Filing: EGTS—February 28, 2023 Nonconforming Service Agreements to be effective 4/1/2023.

Filed Date: 2/28/23.

Accession Number: 20230228-5028.

Comment Date: 5 p.m. ET 3/13/23.

Docket Numbers: RP23-474-000.

Applicants: Cove Point LNG, LP.

Description: § 4(d) Rate Filing: Cove Point—2023 Annual EPCA to be effective 4/1/2023.

Filed Date: 2/28/23.

Accession Number: 20230228-5029.

Comment Date: 5 p.m. ET 3/13/23.

Docket Numbers: RP23-475-000.

Applicants: Cove Point LNG, LP.

Description: § 4(d) Rate Filing: Cove Point—2023 Annual Fuel Retainage to be effective 4/1/2023.

Filed Date: 2/28/23.

Accession Number: 20230228-5030.

Comment Date: 5 p.m. ET 3/13/23.

Docket Numbers: RP23-476-000.

Applicants: Colorado Interstate Gas Company, L.L.C.

Description: § 4(d) Rate Filing: CIG Qtly LUF and Semi-Annual Fuel Filing Feb 2023 to be effective 4/1/2023.

Filed Date: 2/28/23.

Accession Number: 20230228-5046.

Comment Date: 5 p.m. ET 3/13/23.

Docket Numbers: RP23-477-000.

Applicants: Kern River Gas Transmission Company.

Description: § 4(d) Rate Filing: 2023 Daggett Surcharge to be effective 4/1/2023.

Filed Date: 2/28/23.

Accession Number: 20230228-5047.

Comment Date: 5 p.m. ET 3/13/23.

Docket Numbers: RP23-478-000.

Applicants: NEXUS Gas Transmission, LLC.

Description: § 4(d) Rate Filing: 2023 NEXUS ASA Filing to be effective 4/1/2023.

Filed Date: 2/28/23.

Accession Number: 20230228-5053.

Comment Date: 5 p.m. ET 3/13/23.

Docket Numbers: RP23-479-000.

Applicants: Northwest Pipeline LLC.

Description: § 4(d) Rate Filing: 2023 Summer Fuel Filing to be effective 4/1/2023.

Filed Date: 2/28/23.

Accession Number: 20230228-5062.

Comment Date: 5 p.m. ET 3/13/23.

Docket Numbers: RP23-480-000.

Applicants: El Paso Natural Gas Company, L.L.C.

Description: § 4(d) Rate Filing: Negotiated Rate Agmt Update (Conoco—Mar 23) to be effective 3/1/2023.

Filed Date: 2/28/23.

Accession Number: 20230228-5067.

Comment Date: 5 p.m. ET 3/13/23.

Docket Numbers: RP23-481-000.

Applicants: Rover Pipeline LLC.

Description: Compliance filing: Rover 2022 AMPS Filing to be effective N/A.

Filed Date: 2/28/23.

Accession Number: 20230228-5071.

Comment Date: 5 p.m. ET 3/13/23.

Docket Numbers: RP23-482-000.

Applicants: Transcontinental Gas Pipe Line Company, LLC.

Description: § 4(d) Rate Filing: Negotiated Rates—Cherokee AGL—Replacement Shippers—Mar 2023 to be effective 3/1/2023.

Filed Date: 2/28/23.

Accession Number: 20230228-5074.

Comment Date: 5 p.m. ET 3/13/23.

Docket Numbers: RP23-483-000.

Applicants: Northwest Pipeline LLC.

Description: § 4(d) Rate Filing: North Seattle and South Seattle Annual Charges Update Filing 2023 to be effective 4/1/2023.

Filed Date: 2/28/23.

Accession Number: 20230228-5075.

Comment Date: 5 p.m. ET 3/13/23.

Docket Numbers: RP23-484-000.

Applicants: Rager Mountain Storage Company LLC.

Description: § 4(d) Rate Filing: Post Closing Cycle Adjustments to be effective 4/1/2023.

Filed Date: 2/28/23.

Accession Number: 20230228-5099.

Comment Date: 5 p.m. ET 3/13/23.

Docket Numbers: RP23-485-000.

Applicants: Northern Natural Gas Company.

Description: § 4(d) Rate Filing: 20230228 Negotiated Rate to be effective 3/1/2023.

Filed Date: 2/28/23.

Accession Number: 20230228-5107.

Comment Date: 5 p.m. ET 3/13/23.

Docket Numbers: RP23-486-000.

Applicants: Southern Star Central Gas Pipeline, Inc.

Description: § 4(d) Rate Filing: Misc Tariff Filing February 2023 to be effective 4/1/2023.

Filed Date: 2/28/23.

Accession Number: 20230228-5112.

Comment Date: 5 p.m. ET 3/13/23.

Docket Numbers: RP23-487-000.

Applicants: Wyoming Interstate Company, L.L.C.

Description: § 4(d) Rate Filing: Non Conforming Negotiated Rate Update (Citadel 217275 Apr 23) to be effective 4/1/2023.

Filed Date: 2/28/23.

Accession Number: 20230228-5133.

Comment Date: 5 p.m. ET 3/13/23.

Docket Numbers: RP23-488-000.

Applicants: Transcontinental Gas Pipe Line Company, LLC.

Description: § 4(d) Rate Filing: 2023 Annual Transco Fuel Tracker to be effective 4/1/2023.

Filed Date: 2/28/23.

Accession Number: 20230228-5151.

Comment Date: 5 p.m. ET 3/13/23.

Docket Numbers: RP23-489-000.

Applicants: Eastern Shore Natural Gas Company.

Description: § 4(d) Rate Filing: ESNG Tariff Housekeeping to be effective 4/1/2023.

Filed Date: 2/28/23.

Accession Number: 20230228-5156.

Comment Date: 5 p.m. ET 3/13/23.

Docket Numbers: RP23-490-000.

Applicants: Equitrans, L.P.

Description: § 4(d) Rate Filing: AVC Storage Loss Retainage Factor Update—2023 to be effective 4/1/2023.

Filed Date: 2/28/23.

Accession Number: 20230228-5174.

Comment Date: 5 p.m. ET 3/13/23.

Docket Numbers: RP23-491-000.

Applicants: Rockies Express Pipeline LLC.

Description: Compliance filing: REX 2023-02-28 Fuel and L&U Reimbursement Percentages and Power Cost Charges to be effective N/A.

Filed Date: 2/28/23.

Accession Number: 20230228-5185.

Comment Date: 5 p.m. ET 3/13/23.

Docket Numbers: RP23-492-000.

Applicants: Tallgrass Interstate Gas Transmission, LLC.

Description: § 4(d) Rate Filing: TIGT 2023-02-28 Negotiated Rate Agreement to be effective 3/1/2023.

Filed Date: 2/28/23.

Accession Number: 20230228-5187.

Comment Date: 5 p.m. ET 3/13/23.

Docket Numbers: RP23-493-000.

Applicants: Ruby Pipeline, L.L.C.

Description: § 4(d) Rate Filing: RP 2023-02-28 Negotiated Rate Agreements to be effective 4/1/2023.

Filed Date: 2/28/23.

Accession Number: 20230228-5191.

Comment Date: 5 p.m. ET 3/13/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP19-57-006.

Applicants: Algonquin Gas Transmission, LLC.

Description: Compliance filing: AGT Ramapo Verplank Delivery Surcharge 2023 to be effective 3/1/2023.

Filed Date: 2/28/23.

Accession Number: 20230228-5143.

Comment Date: 5 p.m. ET 3/13/23.

Docket Numbers: RP21-1187-000.

Applicants: Eastern Gas Transmission and Storage, Inc.

Description: Refund Report: EGTS—Refund Report to be effective N/A.

Filed Date: 2/28/23.

Accession Number: 20230228-5049.

Comment Date: 5 p.m. ET 3/13/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 28, 2023.
Debbie-Anne A. Reese,
Deputy Secretary.

[FR Doc. 2023-04535 Filed 3-3-23; 8:45 am]

BILLING CODE 6717-01-P